DEPARTMENT OF AGRICULTURE

Forest Service

Shady/Highbush Environmental Impact Statement

AGENCY: Forest Service, USDA.

ACTION: Notice of intent to prepare an Environmental Impact Statement.

SUMMARY: The Department of Agriculture, Forest Service, will prepare an Environmental Impact Statement (EIS) on a proposal to harvest timber in the Shady Highbush Timber Sale Project area, Wrangell Ranger District, Tongass National Forest. The proposed action is to harvest an estimated 8 million board feet (mmbf) on approximately 500 acres with about 5 miles of new road construction. The range of alternatives being developed to respond to the significant issues, besides no action, will likely be 2-10 million board feet of timber on an estimated 300-800 acres in one or more timber sales. The purpose and need of the timber sale is to: Contribute to the production of a sustained yield of timber and mix of other resource activities from the Tongass National Forest, consistent with Forest Plan Standards and Guidelines; seek to provide a timber supply sufficient to meet the annual and planning cycle market demand for Tongass National Forest timber; provide a diversity of opportunities for resource uses that contribute to the economies of Southeast Alaska; and support a wide range of natural resource employment opportunities within Southeast Alaska's communities. The Tongass Forest Supervisor will decide on whether or not to harvest timber from this area, and if so, how this timber would be harvested. The decision will be documented in a Record of Decision based on the information disclosed in the EIS and the goals, objectives and desired future conditions as stated in the Forest Plan.

DATES: Opportunities for comment are available throughout the process. Individuals interested in receiving a scoping package should contact us within 30 days of the publication of this NOI. Comments will be most helpful if received by March 31, 2002. Additional opportunities for comment will be provided after release of the Draft EIS, anticipated in early summer, 2002.

ADDRESSES: Please send written comments to Wrangell Ranger District; Attn: Shady/Highbush EIS; PO Box 51, Wrangell, AK 99929.

FOR FURTHER INFORMATION CONTACT: Chip Weber, District Ranger, or Randy Hojem, IDT Leader, Wrangell Ranger District, Tongass National Forest, PO Box 51, Wrangell, AK 99929, telephone (907) 874-2323.

SUPPLEMENTARY INFORMATION: The proposed timber harvest is located within Tongass Forest Plan Value Comparison Units 478, 480, 504 and 505 on Wrangell Island, Alaska, Wrangell Ranger District of the Tongass National Forest. Approximately 65% of proposed sale units are located within Inventoried Roadless Areas on Wrangell Island. In 2001, the Secretary of Agriculture began a review of the roadless area rule and the Chief of the Forest Service undertook a review of the road management policy. These reviews have led the agency to initiate several Interim Directives with the intent that the values associated with inventoried roadless areas are fully considered within the context of forest planning. In Sierra Club v. Lyons (J00-0009) (CV)), the US District Court, District of Alaska enjoined the Tongass National Forest from taking any action to change the wilderness character of any eligible roadless area until a supplemental environmental impact statement (SEIS) has been completed. The injunction was lifted and the Forest Service is currently preparing the SEIS to address wilderness recommendations. Planning for the Shady Highbush Timber Sale Project will continue simultaneously and in coordination with the SEIS and meet the requirements in the Interim Directives. The sale is currently listed on the Tongass 10-year action plan to be sold in 2004. The repercussions of delaying the project planning process regarding road building and timber harvest, even for a relatively short period, can have a significant effect on the amount of timber available for sale on the Tongass over the next few years. The Shady Highbush Timber Sale Project is consistent with the 1997 Tongass Land Management Plan.

Public participation will be an integral component of the study process and will be especially important at several points during the analysis. The first is during the scoping process. The Forest Service will be seeking information, comments, and assistance from Tribal Governments, Federal, State, and local agencies, individuals and organizations that may be interested in, or affected by, the proposed activities. The scoping process will include: (1) Identification of potential issues; (2) identification of issues to be analyzed in depth; and, (3) elimination of insignificant issues or those which have been covered by a previous environmental review. Written scoping comments are being solicited through a scoping package that will be sent to the project mailing list. For the Forest Service to best use the scoping input, comments should be received by March 31, 2002. Tentative issues identified for analysis in the EIS include the potential effects of the project on and the relationship of the project to: Old-growth ecosystem management and the maintenance of habitat for viable populations of wildlife species, timber sale economics and road construction/access management.

Based on results of scoping and the resource capabilities within the project area, alternatives including a “no action” alternative will be developed for the Draft Environmental Impact Statement (Draft EIS). The Draft EIS is projected to be filed with the Environmental Protection Agency (EPA) in the summer of 2002. The Final EIS is anticipated in early 2003.

The comment period on the draft environmental impact statement will be 45 days from the date the Environmental Protection Agency publishes the notice of availability in the Federal Register.

The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553, (1978). Environmental objections that could have been raised at the draft environmental impact statement stage may be waived or dismissed by the courts. City of Angoon v. Hodel, 803 F.2nd 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns of the proposed action, comments during scoping and comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points. Comments received in response to this solicitation, including names and addresses of those who comment, will be considered part of the public record on this proposed action and will be available for public inspection. Comments submitted anonymously will be accepted and considered; however, those who submit anonymous comments will not have standing to appeal the subsequent decision under 36 CFR parts 215 or 217. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, and where the request is denied, the agency will return the submission and notify the requester that the comments may be resubmitted with or without name and address within 7 days.

Permits: Permits required for implementation include the following:

1. U.S. Army Corp of Engineers

—Approval of discharge of dredged or fill material into the waters of the United States under Section 404 of the Clean Water Act;

—Approval of the construction of structures or work in navigable waters of the United States under section 10 of the Rivers and Harbors Act of 1899;

2. Environmental Protection Agency

—National Pollutant Discharge Elimination System (402) Permit;

—Review Spill Prevention Control and Countermeasure Plan;

3. State of Alaska, Department of Natural Resources

—Tideland Permit and Lease or Easement;

4. State of Alaska, Department of Environmental Conservation

—Solid Waste Disposal Permit;

—Certification of Compliance with Alaska Water Quality Standards (401 Certification)

Responsible Official: Thomas Puchlerz, Forest Supervisor, Tongass National Forest, Federal Building, Ketchikan, Alaska 99901, is the responsible official. The responsible official will consider the comments, response, disclosure of environmental consequences, and applicable laws, regulations, and policies in making the decision and stating the rationale in the Record of Decision.

Dated: February 12, 2002.
Thomas Puchlerz,
Forest Supervisor.

[FR Doc. 02-5518 Filed 3-7-02; 8:45 am]

BILLING CODE 3410-11-M